FEDERAL HOUSING FINANCE BOARD

Sunshine Act Meeting Notice; Announcing a Partially Open Meeting of the Board of Directors

Time and date: The open portion of the meeting of the Board of Directors is scheduled to begin at 10 a.m. on Wednesday, August 6, 2003. The closed portion of the meeting will follow immediately the open portion of the meeting.

Place: Board Room, Second Floor, Federal Housing Finance Board, 1777 F Street, NW, Washington, DC 20006.

Status: The first portion of the meeting will be open to the public. The final portion of the meeting will be closed to the public.

Matters to be considered at the open portion of meeting: Capital Plan Amendments for the Federal Home Loan Bank of Boston. Consideration of amendments to the Boston Bank capital plan that would reduce the required notice or “opt out” period for members that choose to withdraw from membership before the plan's effective date; change the approach to the repurchase of excess stock at conversion and provide more flexibility for members; and allow the Bank to hold general stock offerings.

Capital Plan Amendments for the Federal Home Loan Bank of San Francisco. Consideration of amendments to the San Francisco Bank capital plan that would reduce the required notice period for members that choose to withdraw from membership before the plan's effective date; reduce the mortgage asset component of the initial activity-based stock purchase requirement; establish an initial cap of $25 million per member on the membership stock purchase requirement; give the Bank's board of directors discretion to change the cap within a range of $10 million to $50 million; and make other changes to clarify various plan provisions.

Approval of Restated Organization Certificate of the Federal Home Loan Bank of New York. The New York Bank seeks approval of a restated Organization Certificate that reflects the Bank's new capital structure implemented in response to the Gramm-Leach-Bliley Act amendments to the capital requirements for the Federal Home Loan Banks.

Matter to be considered at the closed portion of meeting: Periodic Update of Examination Program Development and Supervisory Findings from the First and Second Quarters of 2003.

FOR FURTHER INFORMATION CONTACT: Janice A. Kaye, Senior Attorney-Advisor, Office of General Counsel, by telephone at 202/408-2505 or by electronic mail at kayej@fhfb.gov.

Dated: July 29, 2003.
By the Federal Housing Finance Board.
Arnold Intrater,
General Counsel.

[FR Doc. 03-19731 Filed 7-30-03; 12:45 Pm]

BILLING CODE 6725-01-P